DEPARTMENT OF COMMERCE

National Oceanic and Atmospheric Administration

[I.D. 092606H]

Gulf of Mexico Fishery Management Council; Public Meeting

AGENCY: National Marine Fisheries Service (NMFS), National Oceanic and Atmospheric Administration (NOAA), Commerce.

ACTION: Notice of public meetings.

SUMMARY: The Gulf of Mexico Fishery Management Council to convene via conference call.

DATES: The conference call will be held October 18, 2006, at 10 a.m. EDT.

ADDRESSES: The meeting will be held via conference call and listening stations will be available. For specific locations see SUPPLEMENTARY INFORMATION.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION: The Council will hold a conference call to potentially reconsider a motion to table further action on Amendment 27 to the Reef Fish Fishery Management Plan (FMP)/Amendment 14 to the Shrimp FMP until December 31, 2006.

Although other non-emergency issues not on the agenda may come before the Council for discussion, in accordance with the Magnuson-Stevens Fishery Conservation and Management Act (Magnuson-Stevens Act), those issues may not be the subject of formal action during the meeting. Actions of the Council will be restricted to the issue specifically identified in the agenda and any issues arising after publication of this notice that require emergency action under Section 305(c) of the Magnuson-Stevens Act, provided the public has been notified of the Council's intent to take action to address the emergency.

The conference call will begin at 10 a.m. EDT and conclude no later than 12 noon EDT. Listening stations are available at the following locations: The Gulf Council office (see ADDRESSES), and the National Marine Fisheries Service (NMFS) offices as follows:

Galveston, TX

4700 Avenue U, Galveston, TX 77551; Contact: Rhonda O'Toole, (409) 766-3500;

St. Petersburg, FL

263 13th Avenue South, St. Petersburg, FL 33701; Contact: Stephen Holiman, (727) 551-5719; and

Panama City, FL

3500 Delwood Beach Road, Panama City, FL 32408; Contact: Janice Hamm, telephone: (850) 234-6541.

Special Accommodations

The conference call is physically accessible to people with disabilities. Requests for sign language interpretation or other auxiliary aids should be directed to Tina Trezza at the Council (see ADDRESSES) at least 5 working days prior to the meeting.

Dated: September 26, 2006.
Tracey L. Thompson,
Acting Director, Office of Sustainable Fisheries, National Marine Fisheries Service.

[FR Doc. E6-16141 Filed 9-29-06; 8:45 am]

BILLING CODE 3510-22-S